ENVIRONMENTAL PROTECTION AGENCY

[EPA-R09-OAR-2011-0978; FRL-9908-07-Region-9]

Notice of Decision To Issue Clean Air Act PSD Permit for the Pio Pico Energy Center

AGENCY: United States Environmental Protection Agency (EPA) Region 9.

ACTION: Notice of final agency action.

SUMMARY: This notice announces that EPA Region 9 issued a final permit decision for a Clean Air Act Prevention of Significant Deterioration (PSD) permit to Pio Pico Energy Center, LLC (PPLLC) for the construction of the Pio Pico Energy Center (PPEC).

DATES: EPA Region 9 issued a final PSD permit decision for the PPEC on February 28, 2014. The PSD permit for the PPEC will become effective on April 7, 2014. Pursuant to section 307(b)(1) of the Clean Air Act, 42 U.S.C. 7607(b)(1), judicial review of this final permit decision, to the extent it is available, may be sought by filing a petition for review in the United States Court of Appeals for the Ninth Circuit within 60 days of March 14, 2014.

ADDRESSES: Documents relevant to the above-referenced permit are available for public inspection during normal business hours at the following address: U.S. Environmental Protection Agency, Region 9, 75 Hawthorne Street, San Francisco, CA 94105-3901. To arrange for viewing of these documents, call Lisa Beckham at (415) 972-3811.

FOR FURTHER INFORMATION CONTACT: Lisa Beckham, Permits Office (Air-3), U.S. Environmental Protection Agency, Region 9, (415) 972-3811, beckham.lisa@epa.gov. Key portions of the administrative record for this decision (including the final permit, all public comments, EPA's responses to the public comments, and additional supporting information) are available through a link at Region 9's Web site, www.epa.gov/region09/air/permit/r9-permits-issued.html#psd, or at www.regulations.gov (Docket ID # EPA-R09-OAR-2011-0978). Anyone who wishes to review the EPA Environmental Appeals Board (EAB or Board) decision described below or documents in the EAB's electronic docket for its decision related to this matter can obtain them at http://www.epa.gov/eab/.

Notice of Final Action and Supplementary Information: EPA Region 9 issued its final permit decision to PPLLC authorizing the construction and operation of the PPEC, PSD Permit No. SD 11-01, on February 28, 2014.

EPA Region 9 initially issued a final PSD permit decision to PPLLC for the PPEC on November 19, 2012. Three commenters filed petitions for review of the Region's November 19, 2012 PSD permit decision for the PPEC with EPA's EAB. On August 2, 2013, the Board issued a decision remanding in part and denying review in part of the Region's November 19, 2012 PSD permit decision for the PPEC. See In re Pio Pico Energy Center PSD Permit No. SD 11-01, PSD Appeal Nos. 12-04 through 12-06 (EAB, Aug. 2, 2013) (Order Remanding in Part and Denying Review in Part). The Board remanded to Region 9 the emission limits for particulate matter from the combustion turbines and directed Region 9 to prepare a revised Best Available Control Technology (BACT) analysis for particulate matter for the Project's combustion turbines in accordance with the Board's decision, including a new BACT determination, after consideration of all of the relevant information. The Board also directed Region 9 to reopen the public comment period to provide the public with an opportunity to comment on the revisions to its particulate matter BACT analysis. The EAB denied review of all other issues.

In addition, the Board's decision stated that once Region 9 issues a final permit decision following the public comment period required by the remand, the Region's final permit decision and the Board's decision in this matter would become final agency action subject to judicial review per 40 CFR 124.19(l). The Board's decision further stated that the Board was not requiring, and would not accept, an appeal to the Board of the final permit decision for the Project following remand in this case.

In response to the EAB's remand decision, Region 9 prepared a revised particulate matter BACT analysis and BACT determination for the emission limits for the Project's combustion turbines in accordance with the Board's order, and proposed revised permit conditions for such limits. In November of 2013, Region 9 issued a public notice seeking public comment on this revised analysis and these revised particulate matter permit conditions, and on December 17, 2013, Region 9 held a public hearing to receive such comment.

EPA has carefully reviewed each of the comments submitted and, after consideration of the expressed views of all commenters, the pertinent Federal statutes and regulations, and additional material relevant to the application and contained in our Administrative Record, EPA made a decision in accordance with 40 CFR 52.21 to issue a final PSD permit to PPLLC for the PPEC.

Following completion of the remand proceedings, pursuant to 40 CFR 124.19(l)(2), EPA Region 9 issued a final permit decision to PPLLC for the PPEC on February 28, 2014. All conditions of the PPEC PSD permit, Permit No. SD 11-01, issued February 28, 2014, become final and effective on April 7, 2014.

Dated: March 7, 2014.
Deborah Jordan,
Director, Air Division, Region IX.

[FR Doc. 2014-05740 Filed 3-13-14; 8:45 am]

BILLING CODE 6560-50-P